FEDERAL COMMUNICATIONS COMMISSION

[OMB 3060-0856; FR ID 63574]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before February 22, 2022. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION: OMB Control Number: 3060-0856.

Title: Universal Service—Schools and Libraries Universal Service Support Program Reimbursement Forms.

Form Numbers: FCC Forms 472, 473, and 474.

Type of Review: Extension of a currently approved collection.

Respondents: Businesses or other for-profit institutions, not-for-profit institutions, and state, local or tribal government.

Number of Respondents and Responses: 16,600 respondents; 96,500 responses.

Estimated Time per Response: 1.5 hours.

Frequency of Response: On occasion and annual reporting requirements.

Obligation to Respond: Required to obtain or retain benefits. Statutory authority for this information collection is contained in sections 1, 4(i), 4(j), 201-205, 214, 254, 312(d), 312(f), 403 and 503(b) of the Communications Act of 1934, as amended. 5 U.S.C. 553(b)(3), 601-612; 15 U.S.C. 1, 632; 44 U.S.C. 3506(c)(4); 47 U.S.C. 1, 4(i), 4(j), 201-205, 214, 254, 312(d), 312(f), 403, 503(b).

Total Annual Burden: 144,750 hours.

Total Annual Cost: No cost.

Privacy Act Impact Assessment: No impact(s).

Nature and Extent of Confidentiality: If the Commission requests applicants or service providers to submit information that the respondents believe is confidential, respondents may request confidential treatment of such information under section 47 CFR 0.459 of the Commission's rules.

Needs and Uses: The Commission will submit this information collection to OMB, which is an extension of a currently approved collection, to obtain a full three-year clearance from OMB.

The FCC Form 472 is used by an applicant (also known as the billed entity) to seek reimbursement for the discounts on services paid in full. After receiving an invoice from the service provider, together with an FCC Form 472, USAC is able to verify the eligible service and approved amounts that should be reimbursed and can make the appropriate payment to the applicant. The FCC Form 472 is also used to ensure that each service provider has provided discounted services within the current funding year and that invoices submitted from service providers for the costs of discounted eligible services do not exceed the amount that has been approved.

The FCC Form 473 is used to verify that the service provider is eligible to participate in the schools and libraries universal service support program (E-Rate program) and to confirm that the invoice forms submitted by the service provider are in compliance with the Federal Communications Commission's E-Rate program rules. The FCC Form 473 is also used by USAC to assure that the dollars paid out by the universal service fund go to eligible providers.

The FCC Form 474 is used by an eligible service provider to seek payment for the discounted costs of services it provided to applicants (or billed entities) for eligible services. After receiving an invoice from the service provider, together with an FCC Form 474, USAC is able to verify that the eligible and approved amounts can be paid. The FCC Form 474 is also used to ensure that each service provider has provided discounted services within the current funding year for which it submits an invoice to USAC and that invoices submitted from service providers for the costs of discounted eligible services do not exceed the amount that has been approved.

All of the requirements contained in this information collection are necessary to implement the Congressional mandate for the E-Rate program and reimbursement process.

Federal Communications Commission.
Katura Jackson,
Federal Register Liaison, Office of the Secretary.

[FR Doc. 2021-27803 Filed 12-22-21; 8:45 am]

BILLING CODE 6712-01-P